CORPORATION FOR NATIONAL AND COMMUNITY SERVICE

45 CFR Chapter XXV

RIN 3045-AA51

AmeriCorps National Service Program

AGENCY: Corporation for National and Community Service.

ACTION: Final rule; correction.

SUMMARY: The Corporation for National and Community Service (the Corporation) is correcting a final rule to implement changes to the operation of the National Service Trust and the Senior Corps programs under the Serve America Act, that appeared in the Federal Register of August 20, 2010 (75 FR 51395). That document incorrectly failed to redesignate part 2533 as part 2534. This document corrects the final rule by revising the instruction.

DATES: Effective September 20, 2010.

FOR FURTHER INFORMATION CONTACT: Amy Borgstrom, Docket Manager, Corporation for National and Community Service, (202) 606-6930, TDD (202) 606-3472. Persons with visual impairments may request this document in an alternate format.

SUPPLEMENTARY INFORMATION: In FR Doc. 2010-20525, beginning on page 51395 in the Federal Register of Friday, August 20, 2010, make the following correction: On page 51413, in the third column, revise instruction number 36 to read as follows: 36. Under the authority of 42 U.S.C. 12651d, redesignate parts 2530, 2531, 2532, and 2533 as parts 2531, 2532, 2533, and 2534, respectively.

Dated: August 24, 2010.
Wilsie Minor,
Acting General Counsel.

[FR Doc. 2010-21488 Filed 9-8-10; 8:45 am]

BILLING CODE 6050-$$-P